DEPARTMENT OF COMMERCE

International Trade Administration

[Application No. 08-00002]

Export Trade Certificate Of Review

ACTION: Notice of application for an Export Trade Certificate of Review from Wilco Machine & Fab, Inc.

SUMMARY: Export Trading Company Affairs (“ETCA”), International Trade Administration, Department of Commerce, has received an application for an Export Trade Certificate of Review (“Certificate”). This notice summarizes the conduct for which certification is sought and requests comments relevant to whether the Certificate should be issued.

FOR FURTHER INFORMATION CONTACT: Jeffrey Anspacher, Director, Export Trading Company Affairs, International Trade Administration, by telephone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 7021-X H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 08-00002.” A summary of the application follows.

Summary of the Application:

Applicant: Wilco Machine & Fab, Inc. (“Wilco”), P.O. Box 48, 1326 S. Broadway, Marlow, Oklahoma 73055.

Contact: Mr. Anthony Chandler, Manager, Telephone: (580) 658-6993.

Application No.: 08-00002.

Date Deemed Submitted: February 11, 2008.

Members (in addition to applicant): None.

Wilco seeks a Certificate to cover the following specific Export Trade, Export Markets, and Export Trade Activities and Methods of Operations.

Export Trade

Products

All Products manufactured by Wilco, including all fabricated, machined, or assembled pressure vessels, tanks, bulk transport trailers, bulk storage trailers, bulk plants, or any components of or tools for the aforementioned items (North American Industry Classification System codes: 333132; 332313; 33242; and 332439).

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

1. Wilco, on its own behalf may:

a. Sales Price: Establish sale process, minimum sales prices, target sale prices and/or minimum target sales prices, and other terms of sale in Export Markets.

b. Marketing and Distribution: Conduct marketing and distribution of Products in Export Markets.

c. Promotion: Conduct promotion of Products.

d. Quantities: Determine quantities of Products to be sold.

e. Market and Customer Allocation: Allocate geographic areas or countries in the Export Markets and/or customers in the Export Markets to agency representatives or export intermediaries.

f. Refusals To Deal: Refuse to quote prices for Products, or to market or sell Products, to or for any customers in the Export Markets, or any countries or geographical areas in the Export Markets.

g. Exclusive and Nonexclusive Export Intermediaries: Enter into exclusive and nonexclusive agreements appointing one or more export intermediaries for the sale of Products with price, quantity, territorial and/or customer restrictions as provided above.

2. Wilco may exchange and discuss the following information:

a. Information about sale and marketing efforts for the Export Markets, activities and opportunities for sales of Products in the Export Markets, selling strategies for the Export Markets, sales for the Export Markets, contract and pricing in the Export Markets, project demands in the Export Markets for Products, customary terms of sale in the Export Markets, price and availability of products from competitors for sale in Export Markets, and specifications for Products by customers in the Export Markets.

b. Information about price, quality, quantity, source, and delivery dates of Products.

c. Information about terms and conditions of contracts for sale in the Export Markets to be considered and/or bid on by Wilco.

d. Information about bidding, selling, or sales arrangements for the Export Markets.

e. Information about expenses specific to exporting to and within the Export Markets, including without limitation, transportation, shipments, insurance, inland freight to port, port storage, commissions, export sales, documentation, financing, customs, duties, and taxes.

f. Information about U.S. and foreign legislation and regulations, including federal marketing order programs, affecting sales for the Export Markets.

g. Information about Wilco's export operations, including without limitation, sales and prior export sales information including export price information.

h. Information about export customer credit terms and credit history.

3. Wilco may meet with customers, agency representatives, or export intermediaries to discuss or engage in the activities described above.

Definition:

“Export Intermediary” means a person who acts as a distributor, sales representative, sales or marketing agent, import agent, broker, or who performs similar functions including providing or arranging for the provision of Export Trade Facilitation Services.

Dated: February 18, 2008.
Jeffrey Anspacher,
Director, Export Trading Company Affairs.

[FR Doc. E8-3426 Filed 2-22-08; 8:45 am]

BILLING CODE 3510-DR-P